CIVIL RIGHTS COMMISSION

Sunshine Act Meeting Notice

AGENCY: United States Commission on Civil Rights.

ACTION: Notice of Commission public business meeting.

DATES: Friday, July 19, 2019, 10:00 a.m. EDT.

ADDRESSES: Place: National Place Building, 1331 Pennsylvania Ave. NW, Suite 1150, Washington, DC 20425. (Entrance on F Street NW.)

FOR FURTHER INFORMATION CONTACT: Brian Walch: (202) 376-8371; TTY: (202) 376-8116; publicaffairs@usccr.gov.

SUPPLEMENTARY INFORMATION: This business meeting is open to the public. There will also be a call-in line for individuals who desire to listen to the meeting and presentations: 866-556-2429, Conference ID 801-6366. The meeting will also live-stream: https://www.youtube.com/user/USCCR/videos. (Subject to change.) Persons with disabilities who need accommodation should contact Pamela Dunston at (202) 376-8105 or at access@usccr.gov at least seven business days before the scheduled date of the meeting.

Meeting Agenda

I. Approval of Agenda

II. Business Meeting

A. Presentation by Montana Advisory Committee Chair on the Committee's report, Bordertown Discrimination in Montana

B. Presentation by Massachusetts Advisory Committee Chair on the Committee's Advisory Memorandum, Hate Crimes in Massachusetts

C. Discussion and vote on State Advisory Committee appointments

• Illinois

• Massachusetts

• South Dakota

• Washington

• Wisconsin

D. Discussion and vote on 2020 and 2021 project proposals

E. Management and Operations

• Staff Director's Report

F. [11:30 a.m. EDT] Speaker Series Presentation by Charles Kamasaki on his book, Immigration Reform: The Corpse That Will Not Die

III. Adjourn Meeting

Dated: July 8, 2019.
Brian Walch,
Director, Communications and Public Engagement.

[FR Doc. 2019-14803 Filed 7-9-19; 11:15 am]

BILLING CODE 6335-01-P